DEPARTMENT OF ENERGY

Federal Energy Regulatory Commission

Combined Notice of Filings #1

Take notice that the Commission received the following electric rate filings:

Docket Numbers: ER12-316-004.

Applicants: NorthWestern Corporation.

Description: Schedule 3 Compliance Filing re Order Affirming Initial Decision to be effective 1/1/2011.

Filed Date: 5/19/14.

Accession Number: 20140519-5074.

Comments Due: 5 p.m. e.t. 6/9/14.

Docket Numbers: ER12-2178-008; ER10-2172-019; ER11-2016-014; ER10-2184-019; ER10-2183-016; ER10-1048-016; ER10-2192-019; ER11-2056-013; ER10-2178-019; ER10-2174-019; ER11-2014-016; ER11-2013-016; ER10-3308-018; ER10-1020-015; ER13-1536-002; ER10-1078-015; ER10-1080-015; ER11-2010-016; ER10-1081-015; ER10-2180-019; ER11-2011-015; ER12-2528-007; ER11-2009-015; ER10-1143-015; ER11-2007-014; ER11-2005-016.

Applicants: AV Solar Ranch 1, LLC, Baltimore Gas and Electric Company, Cassia Gulch Wind Park, LLC,CER Generation, LLC,CER Generation II, LLC, Commonwealth Edison Company, Constellation Energy Commodities Group M, Constellation Mystic Power, LLC, Constellation NewEnergy, Inc., Constellation Pwr Source Generation LLC,CR Clearing, LLC, Cow Branch Wind Power, LLC, Criterion Power Partners, LLC, Exelon Framingham, LLC, Exelon Generation Company, LLC, Exelon New Boston, LLC, Exelon West Medway, LLC, Exelon Wind 4, LLC, Exelon Wyman, LLC, Handsome Lake Energy, LLC, Harvest WindFarm, LLC, High Mesa Energy, LLC, Michigan Wind 1, LLC,PECO Energy Company, Tuana Springs Energy, LLC, Wind Capital Holdings, LLC.

Description: Amendment to December 30, 2013 Updated Market Power Analysis for the Northeast Region of the Exelon Market-Based Rate Entities.

Filed Date: 5/16/14.

Accession Number: 20140516-5239.

Comments Due: 5 p.m. e.t. 6/6/14.

Docket Numbers: ER13-103-005.

Applicants: California Independent System Operator Corporation.

Description: 2014-05-19_Order 1000_Regional_Third Compliance to be effective 10/1/2013.

Filed Date: 5/19/14.

Accession Number: 20140519-5200.

Comments Due: 5 p.m. e.t. 6/9/14.

Docket Numbers: ER13-2337-003.

Applicants: Midcontinent Independent System Operator, Inc.

Description: 2014-05-09_SA 2017 G540/G548 Barton-ITC GIA Settlement to be effective 8/1/2014.

Filed Date: 5/15/14.

Accession Number: 20140515-5255.

Comments Due: 5 p.m. e.t. 6/5/14.

Docket Numbers: ER13-2375-002.

Applicants: Midcontinent Independent System Operator, Inc.

Description: 2014-05-19 Attachment O Vectren Rate Protocol Compliance Filing to be effective 1/1/2014.

Filed Date: 5/19/14.

Accession Number: 20140519-5075.

Comments Due: 5 p.m. e.t. 6/9/14.

Docket Numbers: ER13-2376-002.

Applicants: Midcontinent Independent System Operator, Inc., Northern Indiana Public Service Company.

Description: 2014-05-19 Attachment O NIPSCO Rate Protocol Compliance Filing to be effective 1/1/2014.

Filed Date: 5/19/14.

Accession Number: 20140519-5090.

Comments Due: 5 p.m. e.t. 6/9/14.

Docket Numbers: ER13-2379-002.

Applicants: Midcontinent Independent System Operator, Inc.

Description: 2014-05-19_Attachment O CMMPA Compliance Filing to be effective 1/1/2014.

Filed Date: 5/19/14.

Accession Number: 20140519-5130.

Comments Due: 5 p.m. e.t. 6/9/14.

Docket Numbers: ER13-2379-003.

Applicants: Midcontinent Independent System Operator, Inc.

Description: 2014-05-19_Attachment O TO Rate Protocol Compliance Filing to be effective 1/1/2014.

Filed Date: 5/19/14.

Accession Number: 20140519-5192.

Comments Due: 5 p.m. e.t. 6/9/14.

Docket Numbers: ER14-381-001.

Applicants: PJM Interconnection, L.L.C.

Description: Compliance Filing per 4/17/2014 Order in Docket No. ER14-381 to be effective 5/19/2014.

Filed Date: 5/19/14.

Accession Number: 20140519-5195.

Comments Due: 5 p.m. e.t. 6/9/14.

Docket Numbers: ER14-1977-000.

Applicants: Niagara Mohawk Power Corporation.

Description: Niagara Mohawk Power Corporation submits tariff filing per 35.13(a)(2)(iii: Niagara Mohawk NFTA Agreement Filing to be effective 8/1/2014.

Filed Date: 5/16/14.

Accession Number: 20140516-5207.

Comments Due: 5 p.m. e.t. 6/6/14.

Docket Numbers: ER14-1978-000.

Applicants: Southern California Edison Company.

Description: True-Up SGIA & Distrib Serv Agmt with SCE's Generation Planning & Strategy to be effective 7/19/2014.

Filed Date: 5/19/14.

Accession Number: 20140519-5000.

Comments Due: 5 p.m. e.t. 6/9/14.

Docket Numbers: ER14-1979-000.

Applicants: Niagara Mohawk Power Corporation.

Description: Notice of Termination of Rate Schedule No. 136 of Niagara Mohawk Power Corporation.

Filed Date: 5/16/14.

Accession Number: 20140516-5240.

Comments Due: 5 p.m. e.t. 6/6/14.

Docket Numbers: ER14-1980-000.

Applicants: PJM Interconnection, L.L.C.

Description: Original Service Agreement No. 3801; Queue No. Z1-096 to be effective 4/29/2014.

Filed Date: 5/19/14.

Accession Number: 20140519-5072.

Comments Due: 5 p.m. e.t. 6/9/14.

Docket Numbers: ER14-1981-000.

Applicants: Cheyenne Light, Fuel and Power Company.

Description: Cheyenne Light, Fuel and Power Company Attachment H to be effective 5/20/2014.

Filed Date: 5/19/14.

Accession Number: 20140519-5073.

Comments Due: 5 p.m. e.t. 6/9/14.

Docket Numbers: ER14-1982-000.

Applicants: PJM Interconnection, L.L.C.

Description: Notice of Cancellation of Original Service Agreement No. 2838; Queue No. W1-119 to be effective 2/14/2012.

Filed Date: 5/19/14.

Accession Number: 20140519-5092.

Comments Due: 5 p.m. e.t. 6/9/14.

Docket Numbers: ER14-1983-000.

Applicants: PJM Interconnection, L.L.C.

Description: Queue Position None; Original Service Agreement No. 3831 to be effective 4/18/2014.

Filed Date: 5/19/14.

Accession Number: 20140519-5105.

Comments Due: 5 p.m. e.t. 6/9/14.

Docket Numbers: ER14-1985-000.

Applicants: ITC Midwest LLC.

Description: Filing of Joint Use Pole Agreement with Consumers Energy Cooperative to be effective 7/19/2014.

Filed Date: 5/19/14.

Accession Number: 20140519-5189.

Comments Due: 5 p.m. e.t. 6/9/14.

Docket Numbers: ER14-1986-000.

Applicants: PJM Interconnection, L.L.C.

Description: First Revised Service Agreement No. 3246; Queue No. W1-119 to be effective 4/30/2014.

Filed Date: 5/19/14.

Accession Number: 20140519-5210.

Comments Due: 5 p.m. e.t. 6/9/14.

Docket Numbers: ER14-1987-000.

Applicants: Oklahoma Gas and Electric Company.

Description: Compliance Filing to Docket EL14-13-000 to be effective 3/1/2014.

Filed Date: 5/19/14.

Accession Number: 20140519-5227.

Comments Due: 5 p.m. e.t. 6/9/14.

Take notice that the Commission received the following electric securities filings:

Docket Numbers: ES14-35-000.

Applicants: Consumers Energy Company.

Description: Second Amendment to April 18, 2014 Application for Authority to Issue Securities of Consumers Energy Company.

Filed Date: 5/16/14.

Accession Number: 20140516-5214.

Comments Due: 5 p.m. e.t. 5/27/14.

Docket Numbers: ES14-40-000.

Applicants: Potomac Electric Power Company, Delmarva Power & Light Company, PHI Service Company.

Description: Amendment to April 30, 2014 Joint Application to Issue Securities of PHI Service Company on behalf of Delmarva Power & Light Company and Potomac Electric Power Company.

Filed Date: 5/16/14.

Accession Number: 20140516-5212.

Comments Due: 5 p.m. e.t. 5/27/14.

Take notice that the Commission received the following PURPA 210(m)(3) filings:

Docket Numbers: QM14-2-000.

Applicants: Great River Energy.

Description: Application Pursuant to Section 292.310(A) for Authorization to Terminate the Mandatory Purchase Obligation from Qualifying Facilities with Net Capacity Over Twenty Megawatts on a Service Territory-Wide Basis of Great River Energy.

Filed Date: 5/16/14.

Accession Number: 20140516-5235.

Comments Due: 5 p.m. e.t. 6/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2014.
Nathaniel J. Davis, Sr.,
Deputy Secretary.

[FR Doc. 2014-12187 Filed 5-23-14; 8:45 am]

BILLING CODE 6717-01-P